DEPARTMENT OF TRANSPORTATION

Federal Aviation Administration

Notice of Passenger Facility Charge (PFC) Approval and Disapprovals

AGENCY: Federal Aviation Administration (FAA), DOT.

ACTION: Monthly Notice of PFC Approvals and Disapprovals. In May 2003, there were six applications approved. This notice also includes information on three applications, approved on April 2003, inadvertently left off the April 2003 notice. Additional, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to Regulations (14 CFR part 158). This notice is published pursuant to paragraph d of § 158.29.

PFC Applications Approved

Public agency: Country of Humboldt, Arcata, California.

Application number: 03-06-C-00-ACV.

Application type: Impose and use a PFC.

PFC level: $4.50.

Total PFC revenue approved in this decision: $503,000.

Earliest charge effective date: July 1, 2003.

Estimated charge expiration date: August 1, 2005.

Class of air carriers not required to collect PFC'S: None.

Brief description of project approved for collection at Arcata Airport (ACV) and use at Kneeland Airport: Master plan update.

Brief description of projects approved for collection Act ACV and use at ACV:

Letz Avenue bluff repair.

Terminal and access gate lock system, video surveillance equipment, security structure.

General aviation ramp.

Equipment purchase—runway/taxiway sweeper.

Replace visual glide slope indicator with precision approach path indicator.

Brief description of project approved for collection at ACV and use at Rohnerville Airport, Murray Field, Garberville Airport, and Dinsmore Airport:

Master plan update.

Brief description of disapproved project:

Purchase pilot weather data super-unicom equipment.

Determination: this project is not eligible in accordance with paragraph 570 of FAA Order 5100.38B, Airport Improvement Program Handbook (May 31, 2003). Therefore, the project does not met the requirements of § 158.15(b).

Decision date: April 28, 2003.

FOR FURTHER INFORMATION CONTACT: Marlys Vandervelde, San Francisco Airports District Office, (650) 876-2806.

Public Agency: City of Long Beach, California.

Application number: 03-02-C-00-LGB.

Application type: Impose and use a PFC.

PFC level: $3.00.

Total PFC revenue approved in this decision: $30,306,984.

Earliest charge effective date: August 1, 2003.

Estimated charge expiration date: October 1, 2009.

Class of air carriers not required to collect PFC'S: Non-scheduled/on-demand air carriers.

Determination: Approved. Based on information contained in the public agency's application, the FAA has determined the proposed class accounts for less than 1 percent of the total annual enplanements at Long Beach Municipal (Daugherty Field).

Brief description of projects approved for collection and use:

Rehabilitation of runway 12/30.

Rehabilitation of taxiways D, A, and B.

Installation of airfield lighting.

Relocation of service road.

Rehabilitation of taxiways D, F, J, and C.

Construction of apron.

Rehabilitation of access road.

Airport security—security system upgrade.

Installation of terminal signs and flight information display system.

Aircraft rescue and firefighting vehicles.

Decision date: April 28, 2003.

FOR FURTHER INFORMATION CONTACT: Ruben Cabalbag, Western Pacific Region Airports Division, (310) 725-3630.

Public agency: Port of Oakland, Oakland, California.

Application number: 03-12-C-00-OAK.

Application type: Impose and use a PFC.

PFC level: $4.50.

Total PFC revenue approved in this decision: $7,600,000.

Earliest charge effective date: December 1, 2003.

Estimated charge expiration date: March 1, 2004.

Class of air carriers not required to collect PFC'S: Nonscheduled/on-demand air carriers filling FAA Form 1800-31.

Determination: Approved. Based on information contained in the public agency's application, the FAA has determined that the proposed class accounts for less than 1 percent of the total annual enplanements at Oakland International Airport.

Brief description of project approved for collection and use: Additional security expenditures.

Decision date: April 28, 2003.

FOR FURTHER INFORMATION CONTACT: Marlys Vandervelde, San Francisco Airports District Office, (650) 876-2806.

Public agency: New Hanover County Airport Authority, Wilmington, North Carolina.

Application number: 03-04-C-00-ILM.

Application type: Impose and use a PFC.

PFC level: $4.50.

Total PFC revenue approved in this decision: $12,785,647.

Earliest charge effective date: April 1, 2007.

Estimated charge expiration date: April 1, 2018.

Class of air carriers not required to collect PFC'S:

Non-scheduled/on-demand air taxi operators.

Determination: Approved. Based on information contained in the public agency's application, the FAA has determined that the proposed class accounts for less than 1 percent of the total annual enplanements at Wilmington International Airport.

Brief description of projects approved for collection and use:

Terminal renovations.

Construct new customs facility.

Master plan update.

Runway 35 clearing.

PFC administrative cost.

Paving program.

Land acquisition.

Airfield retention pond.

De-icing retention system.

Brief description of project partially approved for collection and use: instrument landing system.

Determination: The application requested the planning, design, and installation of a Category I instrument landing system on each end of runway 6/24. However, the FAA has a budgeted project to install an instrument landing system on one end of runway 6/24 funded with Federal Facilities and Equipment program funds. Therefore, this project is limited to the installation of an instrument landing system on the opposite end of the runway from the Facilities and Equipment program installation.

Decision Date: May 7, 2003.

FOR FURTHER INFORMATION CONTACT: Tracie D. Kleine, Atlanta Airports District Office, (404) 305-7148.

Public agency: Erie Municipal Airport Authority, Erie, Pennsylvania.

Application number: 03-03-C-00-ERI.

Application type: Impose and use a PFC.

PFC level: $4.50.

Total PFC revenue approved in this decision: $1,001,183.

Earliest charge effective date: August 1, 2003.

Estimated charge expiration date: January 1, 2005.

Class of air carriers not required to collect PFC's: None.

Brief description of projects approved for collection and use:

Master plan phases I and II.

Site security phase II.

Command vehicle.

Environmental assessment for master plan.

Airfield access road.

Acquire Orchard Park mobile home estate.

Replace high intensity runway lighting system.

Snow removal vehicle.

Public safety vehicle.

9/11 security costs.

Environmental assessment for runway 6/24 extension.

Construct two new passenger loading bridges.

Aircraft rescue and firefighting vehicle (pumper).

Acquire runway friction tester vehicle.

PFC administrative fee.

Brief description of projects approved for collection:

Acquire land, runway 6/24 extension.

Design of runway 6/24 extension.

Snow removal equipment (Oshkosh blower).

Brief description of disapproved project: Improve/rehabilitate terminal.

Determination: The public agency did not provide sufficient description or justification for this project. Therefore, the FAA disapproved the project as not meeting the requirements of § 158.15.

Decision date: May 13, 2003.

FOR FURTHER INFORMATION CONTACT: Lori Ledebohm, Harrisburg Airports District Office, (717) 730-2835.

Public agency: Hillsborough County Aviation Authority, Tampa, Florida.

Application number: 03-06-C-00-TPA.

Application type: Impose and use a PFC.

PFC level: $4.50.

Total PFC revenue approved in this decision: $298,155,400.

Earliest charge effective date: August 1, 2006.

Estimated charge expiration date: September 1, 2013.

Class of air carriers not required to collect PFC'S: On-demand air taxi/commercial operators.

Determination: Approved. Based on information contained in the public agency's application, the FAA has determined that the proposed class accounts for less than 1 percent of the total annual enplanements at Tampa International Airport.

Brief description of projects approved for collection and use.

Airside B demolition and apron reconstruction.

Airside C development program.

Engine run-up enclosure, taxiway and ramp.

Outbound baggage handling system and security enhancements.

Decision date: May 16, 2003.

FOR FURTHER INFORMATION CONTACT: Vernon P. Rupinta, Orlando Airports District Office, (407) 812-6331, extension 24.

Public agency: San Diego Regional Airport Authority, San Diego, California.

Application number: 03-03-C-00-SAN.

Application type: Impose and use a PFC.

PFC level: $4.50.

Total PFC revenue approved in this decision: $83,075,730.

Earliest charge effective date: August 1, 2003.

Estimated charge expiration date: March 1, 2006.

Class of air carriers not required to collect PFC's: Air taxis.

Determination: Approved. Based on information contained in the public agency's application, the FAA has determined that the proposed class accounts for less than 1 percent of the total annual enplanements at San Diego International Airport.

Brief description of projects approved for collection and use at a $4.50 PFC level:

Replace aircraft rescue and firefighting vehicle.

Taxiway improvements.

Runway safety area improvements.

Commuter terminal apron improvements.

Sound attenuation and noise monitoring equipment.

Airport security improvements.

Terminal improvements.

Brief description of projects approved for collection and use at a $3.00 PFC level:

Environmental study.

Airport access improvements.

Infrastructure data management system.

Brief description of disapproved project: Environmental remediation.

Determination: This project is not eligible in accordance with paragraph 406s of FAA Order 5100.38B, Airport Improvement Program Handbook, (May 31, 2002). Therefore, this project does not meet the requirements of § 158.15(b).

Decision date: May 20, 2003.

FOR FURTHER INFORMATION CONTACT: John Milligan, Western Pacific Region Airports Division, (310) 725-3621.

Public agency: County of Outagamie, Appleton, Wisconsin.

Application number: 03-05-C-00-ATW.

Application type: Impose and use a PFC.

PFC level: $3.00.

Total PFC revenue approved in this decision: $318,170.

Earliest charge effective date: March 1, 2008.

Estimated charge expiration date: October 1, 2008.

Class of air carriers not required to collect PFC's: None.

Brief description of projects approved for collection and use: Acquire snow removal equipment.

Decision date: May 23, 2003.

FOR FURTHER INFORMATION CONTACT: Sandra E. DePottey, Minneapolis Airports District Office, (612) 713-4363.

Public agency: County of Montrose, Montrose, Colorado.

Application number: 03-02-C-00-MTJ.

Application type: Impose and use a PFC.

PFC level: $4.50.

Total PFC revenue approved in this decision: $821,694.

Earliest charge effective date: August 1, 2003.

Estimated charge expiration date: October 1, 2011.

Class of air carriers not required to collect PFC'S: None.

Brief description of projects approved for collection and use:

Construct a portion of taxiway A.

Rehabilitate taxiway B and a portion of the general aviation apron.

Construct aircraft rescue and firefighting/snow removal equipment building.

Rehabilitate a portion of general aviation apron.

Rehabilitate a portion of general aviation apron and runway 13/31.

Extend runway 17 safety area.

Decision date: May 30, 2003.

FOR FURTHER INFORMATION CONTACT: Christopher Schaffer, Denver Airports District Office, (303) 342-1258.

Amendments to PFC Approvals
Amendment number city, state | Amendment approved date | Original approved net PFC revenue | Amended approved net PFC revenue | Original estimated charge exp. date | Amended estimated charge exp. date
01-02-C-01-SDF, Louisville, KY. | 03/18/03 | $16,398,940 | $15,678,940 | 06/01/18 | 04/01/18
98-03-C-03-DCA, Arlington, VA. | 03/27/03 | 46,823,287 | 53,846,780 | 11/01/03 | 02/01/04
93-01-C-04-DCA, Arlington, VA. | 04/22/03 | 166,739,069 | 166,410,356 | 04/01/02 | 04/01/02
00-04-C-01-TUL, Tulsa, OK. | 04/25/03 | 13,500,000 | 17,900,000 | 07/01/03 | 07/01/04
*97-04-C-02-LAX, Los Angeles, CA. | 04/28/03 | 440,000,000 | 700,000,000 | 01/01/04 | 12/01/05
*96-01-C-01-HIB, Hibbing, MN. | 04/29/03 | 338,299 | 338,299 | 10/01/04 | 05/01/06
96-02-C-02-IND, Indianapolis, IN. | 05/21/03 | 21,275,922 | 11,869,241 | 04/01/02 | 10/01/01
(Note: The amendments denoted by an asterisk (*) include a change to the PFC level charged from $3.00 per enplaned passenger to $4.50 per enplaned passenger. For Los Angeles, CA and Hibbing, MN, this change is effective on July 1, 2003.)

Issued in Washington, DC. on June 11, 2003.
Jaime Duran,
Acting Manager, Financial Analysis and Passenger Facility Charge Branch.

[FR Doc. 03-15297 Filed 6-16-03; 8:45 am]

BILLING CODE 4910-13-M